DEPARTMENT OF TRANSPORTATION

Federal Aviation Administration

14 CFR Part 3

[Docket No. FAA-2003-15062; Notice No. 03-07]

RIN 2120-AG08

False and Misleading Statements Regarding Aircraft Products, Parts, and Materials; Correction

AGENCY: Federal Aviation Administration (FAA), DOT.

ACTION: Proposed rule; correction.

SUMMARY: This document makes a correction to the notice of proposed rulemaking (NPRM) published in the Federal Register on May 5, 2003 (68 FR 23808). The NPRM proposed additional rules that would prohibit certain false or misleading statements regarding type certificated products, parts, and materials that may be used on type certificated products. The proposal would also allow increased inspection by the FAA of records and parts regarding the quality of aircraft parts.

FOR FURTHER INFORMATION CONTACT: Beverly Sharkey, (703) 668-3720; e-mail: beverly.j.sharkey@faa.gov.

Correction

In FR Doc. 03-10946 published on May 5, 2003, on page 23808, in the second column, correct the FOR FURTHER INFORMATION CONTACT paragraph to read as follows:

FOR FURTHER INFORMATION CONTACT: Beverly Sharkey, Suspected Unapproved Parts Program Office (AVR-20), Federal Aviation Administration, 13873 Park Center Rd., Suite 165, Herndon, VA 20171; telephone (703) 668-3720, facsimile (703) 481-3002, e-mail beverly.j.sharkey@faa.gov.

Issued in Washington, DC, on May 12, 2003.
Donald P. Byrne,
Assistant Chief Counsel for Regulations.

[FR Doc. 03-12383 Filed 5-16-03; 8:45 am]

BILLING CODE 4910-13-P